DEPARTMENT OF THE INTERIOR

Bureau of Land Management

[LLORV00000-L10200000.DF0000; HAG 9-0189]

Notice of Intent To Prepare an Environmental Impact Statement for the Trout Creek Geographic Management Area, Jordan Resource Area, Vale District, OR

AGENCY: Bureau of Land Management, Interior.

ACTION: Notice of Intent.

SUMMARY: The Bureau of Land Management (BLM) Vale District Office, Vale, Oregon intends to prepare an Environmental Impact Statement (EIS) for proposed actions pertaining to livestock grazing systems and rangeland developments that will affect 10 livestock grazing permit terms and conditions in the Trout Creek Geographic Management Area (TCGMA) Vale District. Actions may include, for example, installation and/or removal of fences and water developments, changes to duration or season of use of grazing, and other changes to the terms and conditions of affected grazing permits. By this notice the BLM is announcing the beginning of the scoping process and soliciting input on the identification of issues.

DATES: To identify relevant issues, the BLM will announce public scoping meetings through local news media, newsletters, and the BLM Web site: http:www.blm.gov/or/districts/vale/plans/tcgma_eis.php at least 15 days prior to each meeting.

ADDRESSES: You may submit comments on issues related to the TCGMA EIS by any of the following methods:

• District Web site: http:www.blm.gov/or/districts/vale/plans/valermp.php.

• E-mail: TCGMA_EIS@blm.gov

• Fax: (541) 473-6213.

• Mail: Bureau of Land Management, Vale District Office, 100 Oregon Street, Vale, OR 97918.

Documents pertinent to this proposal may be examined at the Vale District Office during regular business areas.

FOR FURTHER INFORMATION CONTACT: For further information and/or to have your name added to our mailing list, contact Trisha Skerjanec, (541) 473-6222; or e-mail trisha_skerjanec@blm.gov.

SUPPLEMENTARY INFORMATION: This document provides notice that the BLM District Office, Vale, Oregon, intends to prepare an EIS for proposed actions for livestock grazing systems and rangeland developments that will affect 10 livestock grazing permit terms and conditions in the TCGMA. The project area covers about 627,900 acres of co-mingled Federal, private, and State land located in Southeastern Oregon and Northwestern Nevada. About 586,900 acres (or 94.4 percent) of the land is public domain administered by the BLM. Subsequent grazing decisions will be based on the EIS and Record of Decision (ROD) and conform to the BLM grazing regulations at 43 CFR subpart 4180, Fundamentals of Rangeland Health Standards and Guidelines for Grazing Administration, and the Southeastern Oregon Resource Management Plan and ROD.

The analysis will involve a variety of issues pertaining to the following: rangeland vegetation, rangeland grazing use, wild horses, special status plants, water resources and riparian areas, fish and aquatic habitat, including a Federal threatened species of fish, wildlife, and wildlife habitat, special status animals, recreation, wilderness study areas, land outside of wilderness study areas possessing wilderness characteristics, and archeological and paleontological materials.

This document also announces the beginning of the public scoping process and seeks public input on the aforementioned issues. The BLM has previously held scoping meetings for this land area in preparation for an Environmental Assessment and Finding of No Significant Impact. However, for reasons related to ongoing litigation, the Vale District now will examine its proposed action through an EIS. Thus, for procedural reasons, a second opportunity for public scoping is available with this EIS. The purpose of the public scoping is to determine concerns and ideas that will help guide the decision-making process. You may submit comments on the aforementioned issues in writing to the BLM at any public scoping meeting, or you may submit them to the BLM using one of the methods listed in the ADDRESSES section above. To have your name added to the mailing list, reply to the person listed in the FOR FURTHER INFORMATION CONTACT section above.

To be most helpful, you should submit comments by January 21, 2010. Before including your address, phone number, e-mail address, or other personal identifying information in your comment, you should be aware that your entire comment—including your personal identifying information—may be made publicly available at any time. While you can ask us in your comment to withhold your personal identifying information from public review, we cannot guarantee that we will be able to do so. The minutes and list of attendees for each scoping meeting will be available to the public and open for 30 days after the meeting to any participant who wishes to clarify the views he or she expressed.

The BLM will evaluate identified issues, and will place them into one of three categories:

1. Issues to be resolved in the EIS;

2. Issues to be resolved through policy or administrative action; or

3. Issues beyond the scope of this EIS.

The BLM will provide an explanation in the EIS as to why we placed an issue in category two or three.

Carolyn R. Freeborn,
Jordan Field Manager, Vale District Office.

[FR Doc. E9-30379 Filed 12-21-09; 8:45 am]

BILLING CODE 4310-33-P